OVERSEAS PRIVATE INVESTMENT CORPORATION

April 22, 2004, Public Hearing

OPIC's Sunshine Act notice of its public hearing was published in the Federal Register (Volume 69, Number 64, Page 17458) on April 2, 2004. No requests were received to provide testimony or submit written statements for the record; therefore, OPIC's public hearing in conjunction with OPIC's April 29, 2004 Board of Directors meeting scheduled for 2 p.m. on April 22, 2004 has been cancelled.

Contact Person for Information: Information on the hearing cancellation may be obtained from Connie M. Downs at (202) 336-8438, via facsimile at (202) 218-0136, or via e-mail at cdown@opic.gov.

Dated: April 19, 2004.
Connie M. Downs,
OPIC Corporate Secretary.

[FR Doc. 04-9116 Filed 4-19-04; 10:10 am]

BILLING CODE 3210-01-M